POSTAL SERVICE

39 CFR Part 20

International Country Listing for South Sudan

AGENCY: Postal Service™.

ACTION: Final rule.

SUMMARY: The Postal Service is revising Mailing Standards of the United States Postal Service, International Mail Manual (IMM®), to incorporate minor changes.

DATES: Effective date: January 26, 2020.

FOR FURTHER INFORMATION CONTACT: Michelle Lassiter at 202-268-2914.

SUPPLEMENTARY INFORMATION: Modifications to the country price list for international mail that appears in Part D of the Mail Classification Schedule have been posted under Docket Number MC2020-27 on the Postal Regulatory Commission's website at http://www.prc.gov.

On May 6, 2019, the designated operator for the Republic of South Sudan sent International Bureau Circular number 76 to remind designated operators to send dispatches addressed to South Sudan using ISO country code “SS”. The Postal Service will add South Sudan to the following sections of the Mailing Standards of the United States Postal Service, International Mail Manual (IMM): Section 292.45a; the Index of Countries and Localities; the Country Price Groups and Weight Limits; and the Individual Country Listings.

The Postal Service hereby adopts the following changes to the IMM, which are incorporated by reference in the Code of Federal Regulations. See 39 CFR 20.1.

List of Subjects in 39 CFR Part 20

Foreign relations, International postal services.

Accordingly, 39 CFR part 20 is amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

Mailing Standards of the United States Postal Service, International Mail Manual (IMM)

* * * * *

2 Conditions for Mailing

* * * * *

213 Prices and Postage Payment Methods

* * * * *

213.5 Destinating Countries and Price Groups

* * * * *

Exhibit 213.5 Destinating Countries and Price Groups

[Add a new entry for South Sudan to read as follows]

Country name | GXG price group
South Sudan, Republic of | No Service.

* * * * *

290 Commercial Services

* * * * *

292 International Priority Airmail (IPA) Service

* * * * *

292.45 IPA Foreign Office of Exchange Codes and Price Groups

* * * * *

Exhibit 292.45a IPA Foreign Office of Exchange Codes and Price Groups

[Add an entry in alphabetical order to read as follows:]

Country name | Foreign office of exchange code | Price group
* * * * * * *
South Sudan, Republic of | JUB | 19
* * * * * * *

* * * * *

Index of Countries and Localities

[Add an entry in alphabetical order to read as follows:]

South Sudan, Republic of

* * * * *

Country Price Groups and Weight Limits

[Add an entry in alphabetical order to read as follows:]

Country | Global express guaranteed: Price group | Global express guaranteed: Max. Wt. (lbs.) | Priority mail express international: Price group | Priority mail express international: Max. Wt. | Priority mail express international: PMEI flat rate envelopes price group ¹ | Priority mail international: Price group | Priority mail international: Max. Wt. (lbs.) | Priority mail international: PMI flat rate envelopes and boxes price group ² | First-class mail international and first-class package international service: Price group | First-class mail international and first-class package international service: Max. Wt. (lbs.)
* * * * * * *
South Sudan, Republic of | n/a | n/a | n/a | n/a | n/a | 7 | 44 | 8 | 7 | See Note 3.
* * * * * * *

* * * * *

Individual Country Listings

* * * * *

[Add an entry in alphabetical order to read as follows:]

South Sudan, Republic of

Country Conditions for Mailing

Prohibitions (130)

Arms, including spare parts and ammunition.

Infectious substances, including exempt patient specimens (human or animal) and Category B infectious substances under 135.1.

Gambling items, such as playing cards, poker chips and games of chance.

Narcotics, including those prescribed by a doctor.

Radioactive materials, including radioactive materials under 135.5.

Restrictions

No list furnished.

Observations

All goods sent to South Sudan are subject to a customs clearance fee of 450 South Sudan Pounds (SSP) and an administration fee of 550 SSP.

Global Express Guaranteed (210)

Not Available

Priority Mail Express International (220)

Not Available

Priority Mail International (230) Price Group 7

Refer to Notice 123, Price List, for the applicable retail, Commercial Base, or Commercial Plus price.

Weight Limit: 44 lbs.

Priority Mail International—Flat Rate

Flat Rate Envelopes or Small Flat Rate Priced Boxes: The maximum weight is 4 pounds. Refer to Notice 123, Price List, for the applicable retail, Commercial Base, or Commercial Plus price.

Flat Rate Boxes—Medium and Large: The maximum weight is 20 pounds, or the limit set by the individual country, whichever is less. Refer to Notice 123, Price List, for the retail, Commercial Base, or Commercial Plus price.

Size Limits (231.22)

Maximum length: 42 inches.

Maximum length and girth combined: 79 inches.

Insurance (232.91)

NOT Available.

Customs Forms Required (123)

All Priority Mail International items:

PS Form 2976-A inside PS Form 2976-E (envelope).

First-Class Mail International (240) Price Group 7

Refer to Notice 123, Price List, for the applicable retail price.

Weight Limit: 3.5 oz. for letters and postcards; 15.994 oz. for large envelopes (flats).

Size Limits

Letters: See 241.212.

Postcards: See 241.221.

Large Envelopes (Flats): See 241.232.

Customs Form Required (123)

PS Form 2976 as required (see 123.61).

First-Class Package International Service (250) Price Group 7

Refer to Notice 123, Price List, for the applicable retail, Commercial Base, or Commercial Plus price.

Weight Limit: 4 lbs.

Size Limits

Packages (Small Packets): See 251.22 and 251.23.

Customs Form Required (123)

PS Form 2976.

Airmail M-bags (260)—

Direct Sack to One Addressee Price Group 7

Refer to Notice 123, Price List, for the applicable retail price.

Weight Limit: 66 lbs.

Customs Form Required (123)

PS Form 2976.

Free Matter for the Blind (270)

Free when sent as First-Class Mail International (documents only), First-Class Package International Service, Priority Mail International Flat Rate Envelopes, or Priority Mail International Small Flat Rate Priced Boxes.

Weight limit: 4 pounds.

Free when sent as Priority Mail International items.

Weight limit: 15 pounds.

Customs Form Required (123)

First-Class Mail International items or First-Class Package International Service items:

PS Form 2976 as required (see 123.61).

Priority Mail International items (including Priority Mail International Flat Rate Envelopes and Priority Mail International Small Flat Rate Priced Boxes):

PS Form 2976-A inside PS Form 2976-E (envelope).

Extra Services

Certificate of Mailing (310)

Individual Pieces—Refer to Notice 123, Price List, for the applicable price:

Individual article (PS Form 3817).

Firm mailing books (PS Form 3665), per article listed (minimum 3).

Duplicate copy of PS Form 3817 or PS Form 3665 (per page).

Bulk Quantities—Refer to Notice 123, Price List, for the applicable price:

First 1,000 pieces (or fraction thereof).

Each additional 1,000 pieces (or fraction thereof).

Duplicate copy of PS Form 3606.

Registered Mail (330)

Fee: Refer to Notice 123, Price List, for the applicable price.

Maximum Indemnity: $42.66.

Available only for First-Class Mail International (including postcards), First-Class Package International Service, and Free Matter for the Blind sent as First-Class Mail International or as First-Class Package International Service.

Return Receipt (340)

Fee: Refer to Notice 123, Price List, for the applicable price.

Available for Registered Mail only.

Restricted Delivery (350)

NOT Available for International Mail as of January 27, 2013.

International Postal Money Order (371)

NOT Available.

International Reply Coupons (381)

NOT Available for International Mail as of January 27, 2013.

International Business Reply Service (382)

NOT Available.

* * * * *

We will publish an appropriate amendment to 39 CFR part 20 to reflect these changes.

Joshua J. Hofer,
Attorney, Federal Compliance.

[FR Doc. 2019-25767 Filed 12-2-19; 8:45 am]

BILLING CODE 7710-12-P